DEPARTMENT OF ENERGY

Federal Energy Regulatory Commission

[Docket Nos. EC06-111-000, et al.]

ESI Energy, LLC, et al.; Electric Rate and Corporate Filings

April 26, 2005.

The following filings have been made with the Commission. The filings are listed in ascending order within each docket classification.

1. ESI Energy, LLC; Bison Wind GP, LLC; Heartland LP, LLC; Bison Wind Holdings, LLC; Bison Wind, LLC; FPL Energy Burleigh County Wind, LLC; FPL Wind Cowboy Wind, LLC

[Docket No. EC06-111-000]

Take notice that on April 14, 2006 ESI Energy, LLC; Bison Wind GP, LLC; Heartland LP, LLC; Bison Wind Holdings, LLC; Bison Wind, LLC; FPL Energy Burleigh County Wind, LLC; and FPL Wind Cowboy Wind, LLC filed an application for approval of a corporate organization and request for expedited approval pursuant to section 203 of the Federal Power Act.

Comment Date: 5 p.m. eastern time on May 5, 2006.

2. DeSoto County Generating Company, LLC; Progress Genco Ventures, LLC; Southern Power Company

[Docket No. EC06-112-000]

Take notice that on April 14, 2006 DeSoto County Generating Company, LLC, Progress Genco Ventures, LLC, and Southern Power Company filed an application for approval of a disposition of jurisdictional facilities pursuant to section 203 of the Federal Power Act.

Comment Date: 5 p.m. eastern time on May 5, 2006.

3. Entergy Services, Inc.

[Docket No. EL01-88-004]

Take notice that on April 10, 2006 Entergy Services, Inc. as agent and on behalf of the Entergy Operating Companies filed amendments to its Entergy System Agreement in compliance with the Commission's June 1, 2005 and December 19, 2005 orders.

Comment Date: 5 p.m. eastern time on May 31, 2006.

4. MidAmerican Energy Company

[Docket No. ER96-719-012]

Take notice that on April 3, 2006 MidAmerican Energy Company filed proposed changes to its FERC Electric Tariff, Original Volume No. 11 (Sales Tariff) for sales of capacity and energy within the MidAmerican control area, to be effective August 7, 2005, to correspond with the effective date that the Commission required for the Sales Tariff in its March 17, 2006 order.

Comment Date: 5 p.m. Eastern Time on May 8, 2006.

5. Cabrillo Power I LLC; Cabrillo Power II LLC; El Segundo Power, LLC; Long Beach Generation, LLC

[Docket Nos. ER99-1115-009; ER99-1116-009; ER06-820-001; ER98-1127-009; ER98-1796-008]

Take notice that on April 17, 2006 Cabrillo Power I LLC, Cabrillo Power II LLC, El Segundo, LLC and Long Beach Generation, LLC filed amendments to their market-based rate tariffs to conform with the other market-based rate tariffs held by subsidiaries of NRG Energy, Inc that have been approved by the Commission in recent proceedings.

Comment Date: 5 p.m. eastern time on May 8, 2006.

6. Governors of the States of Arizona, California; Colorado, Montana, Nevada, New Mexico; Oregon, Utah, Washington and Wyoming

[Docket No. RR06-2-000]

On April 20, 2006, the Governors of the States of Arizona, California, Colorado, Montana, Nevada, New Mexico, Oregon, Utah, Washington and Wyoming filed a petition, pursuant to section 215 of the Federal Power Act, to create a Regulatory Advisory Body for the Western Interconnection. The petitioners propose to organize the Western Interconnection Regional Advisory Body pursuant to a Policy Resolution of the Western Governors' Association.

Comment Date: 5 p.m. eastern time on May 26, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-6582 Filed 5-1-06; 8:45 am]

BILLING CODE 6717-01-P